Proclamation 8944 of March 25, 2013

Establishment of the First State National Monument

By the President of the United States of America

A Proclamation

Sites within the State of Delaware encompass nationally significant objects related to the settlement of the Delaware region by the Swedes, Finns, Dutch, and English, the role that Delaware played in the establishment of the Nation, and the preservation of the cultural landscape of the Brandywine Valley. A national monument that includes certain property in New Castle, Dover, and the Brandywine Valley, Delaware (with contiguous acreage in the Township of Chadd's Ford, Pennsylvania) will allow the National Park Service and its partners to protect and manage these objects of historic interest and interpret for the public the resources and values associated with them.

In 1638, Peter Minuit led Swedish and Finnish colonists to present-day Wilmington, established New Sweden, and built Fort Christina. Holy Trinity (Old Swedes) Church nearby includes a burial ground used since the Swedes landed in this area in 1638. In 1651, Peter Stuyvesant led Dutch settlers from New Amsterdam in present-day New York to a site approximately 7 miles south of Fort Christina. There, in present-day New Castle, the Dutch built Fort Casimir and named the place “New Amstel.” The Dutch fort at New Amstel occupied a better position than the Swedish Fort Christina for controlling commerce. Conflicts between the Swedish and Dutch colonists resulted in changing occupations of Fort Casimir, with the Dutch regaining control in 1655.

In 1664, the English arrived in New Amstel, seized the city for the King of England, and renamed it “New Castle.” The English also wrested control of all of New Netherland, incorporating it into the colony of New York under the Duke of York, brother of King Charles II.

In 1681, King Charles II deeded Pennsylvania to William Penn. To protect the land around New Castle that he had previously granted to the Duke of York, the King set the boundary 12 miles from New Castle in an arc extending radially from a point subsequently marked by the cupola of the New Castle Court House built in 1732. To gain access to the Atlantic Ocean for his new Quaker Colony, however, William Penn persuaded the Duke of York to give him the three “Lower Counties of Pennsylvania” that eventually became Delaware. The “12-mile arc” that separated these lower counties from the rest of Pennsylvania, and eventually became the State boundary between Pennsylvania and Delaware, runs through the present-day Woodlawn property in the Brandywine Valley (Woodlawn).

William Penn landed in New Castle in 1682, and took possession of the city. In 1704, Penn allowed the General Assembly of the Three Lower Counties to meet in New Castle separately from the Assembly in Philadelphia, portending the development of the State of Delaware. New Castle remained the colonial capital of Delaware until 1777, and the New Castle Court House served as the meeting place of the Delaware Assembly.

During the 1700s, colonial Delaware actively participated in both the first and second Continental Congresses, and engaged in the debates over British actions and the question of independence. The Delaware Assembly met on June 15, 1776, in the New Castle Court House, where it voted to separate from England and from Pennsylvania, creating the “Delaware State.” The Court House served as the capitol until 1777, when government functions moved to Dover as a precaution against attack from British warships in the Delaware River.

The Court House and the New Castle Historic District, including the Green, the Sheriff's House, and numerous additional resources from the time of earliest settlement through the Federal era, are National Historic Landmarks. The Green has served as a center of activity since the Dutch laid it out as the Public Square. The Sheriff's House, abutting the Court House on the Green, is architecturally significant and is all that remains of the State's first prison system. The New Castle Court House later provided the setting for a dramatic chapter in the history of the Underground Railroad: the criminal trial, presided over by Chief Justice Roger B. Taney, of prominent Quaker abolitionist Thomas Garrett and his colleague John Hunn for assisting runaway slaves escaping from Maryland to Pennsylvania. In the trial Garrett defiantly asserted that he would continue to assist runaway slaves, as he did working with Harriet Tubman and other heroes of the Underground Railroad.

The Constitution of the United States was completed in Philadelphia on September 17, 1787, and then sent to the Congress of the Confederation for transmittal to the State legislatures. At the Golden Fleece Tavern on the Dover Green, a Delaware convention ratified the Constitution on December 7, 1787, earning Delaware the accolade of “the First State.” Though the Tavern no longer exists, Dover Green is the central area of the Dover Green Historic District that signifies this event and many others, including the mustering of a Continental Regiment during the American Revolution and the reading of the Declaration of Independence in 1776.

The boundary arc establishing the three “Lower Counties of Pennsylvania” that became the State of Delaware runs, in part, through Woodlawn, northwest of Wilmington. Woodlawn is situated on land in the Brandywine Valley acquired by William Penn in 1682. Penn commissioned a survey of this land that marked the 12-mile boundary arc through his property with tree blazes, which were replaced in 1892 with stone markers, two of which still stand. In 1699, Penn sold 2,000 acres of this property to the Pennsylvania Land Company, which in turn sold the land predominantly to Quakers, who had begun settling the area before 1690. In time, the Brandywine and Delaware valleys were more densely settled with Quakers than any other rural area in the United States. At least eight structures from the 18th century are known to be located at Woodlawn. Because Woodlawn has been relatively undisturbed, it still exhibits colonial and Quaker settlement patterns that have vanished elsewhere.

The preservation of Woodlawn is the result of the little-known but historically significant story of Quaker industrialist William Poole Bancroft's prescient planning efforts for the region. Beginning in 1906, Bancroft began to purchase property in the Brandywine Valley, 5 miles outside Wilmington city limits, to hold in reserve for the health and well-being of the public. Heir to the Bancroft textile mills on the Brandywine River, Bancroft eventually amassed over 1,300 acres, of which Woodlawn comprises approximately 1,100 acres that remain essentially the same as when he purchased them: farm fields and forest predominate, dotted with old farmsteads, bridges, and a few roads and trails.

Bancroft provided this rural landscape as part of an altruistic planning effort that also included affordable housing in the City of Wilmington and a system of parks and parkways, on which Frederick Law Olmsted consulted, that linked the neighborhoods to the green spaces. Bancroft established the Woodlawn Trustees to preserve much of the rural landscape as public park land where city residents could enjoy recreation and bucolic surroundings.

WHEREAS section 2 of the Act of June 8, 1906 (34 Stat. 225, 16 U.S.C. 431) (the “Antiquities Act”), authorizes the President, in his discretion, to declare by public proclamation historic landmarks, historic and prehistoric structures, and other objects of historic interest that are situated upon the lands owned or controlled by the Government of the United States to be national monuments, and to reserve as a part thereof parcels of land, the limits of which in all cases shall be confined to the smallest area compatible with the proper care and management of the objects to be protected;

WHEREAS, for the purpose of establishing a national monument, the State of Delaware has donated to the United States certain lands and interests in lands in New Castle, Delaware (including the Sheriff's House in fee, and an easement for the protection of and access to the New Castle Court House and the Green); the City of Dover has donated to the United States an easement for the protection of and access to the Dover Green; and the Conservation Fund, with the support of the Mt. Cuba Center and the cooperation of the Rockford Woodlawn Fund has donated the Woodlawn property to the United States in fee;

WHEREAS it is in the public interest to preserve and protect the objects of historic interest associated with the early settlement of Delaware, the role of Delaware as the first State to ratify the Constitution, and the establishment and conservation of Woodlawn;

NOW, THEREFORE, I, BARACK OBAMA, President of the United States of America, by the authority vested in me by section 2 of the Antiquities Act, hereby proclaim, set apart, and reserve as the First State National Monument (monument), the objects identified above and all lands and interests in lands owned or controlled by the Government of the United States within the boundaries described on the accompanying maps, which are attached to and form a part of this proclamation, for the purpose of protecting those objects. These reserved Federal lands and interests in lands encompass approximately 1,108 acres, together with appurtenant easements for all necessary purposes, which is the smallest area compatible with the proper care and management of the objects to be protected.

All Federal lands and interests in lands within the boundaries of the monument are hereby appropriated and withdrawn from all forms of entry, location, selection, sale, leasing, or other disposition under the public land laws, including withdrawal from location, entry, and patent under the mining laws, and from disposition under all laws relating to mineral and geothermal leasing.

The establishment of the monument is subject to valid existing rights. Lands and interests in lands within the monument boundaries not owned or controlled by the United States shall be reserved as part of the monument upon acquisition of ownership or control by the United States.

The Secretary of the Interior (Secretary) shall manage the monument through the National Park Service, pursuant to applicable legal authorities, consistent with the purposes and provisions of this proclamation. Further, to the extent authorized by law, the Secretary shall promulgate any additional regulations needed for the proper care and management of the monument.

The Secretary shall prepare a management plan for the monument, with full public involvement, within 3 years of the date of this proclamation. The management plan shall ensure that the monument fulfills the following purposes for the benefit of present and future generations: (1) to preserve and protect the objects of historic interest identified above; (2) to interpret the story of early Swedish, Finnish, Dutch, and English settlement in the region, and Delaware's role in the establishment of the Nation, including as the first State to ratify the Constitution; and (3) to preserve Woodlawn consistent with William Poole Bancroft's vision of a rural landscape accessible to the public for their health and well-being. The management plan shall set forth, among other provisions, the desired relationship of the monument to other related resources, programs, and organizations in the region, including Old Swedes Church, Fort Christina, Stonum, Lombardy Hall, Brandywine Creek State Park, Hagley Museum and Library, Nemours Mansion and Gardens, Winterthur Museum and Country Estate, Brandywine River Museum, Longwood Gardens, John Dickinson Plantation, and First State Heritage Park.

The National Park Service shall consult with State and local agencies and other appropriate organizations in planning for interpretation and visitor services at the monument. The National Park Service is directed to use applicable authorities to seek to enter into agreements addressing common interests and promoting management efficiencies, including provision of visitor services, interpretation and education, and preservation of resources and values.

Nothing in this proclamation shall be deemed to revoke any existing withdrawal, reservation, or appropriation; however, the monument shall be the dominant reservation.

Warning is hereby given to all unauthorized persons not to appropriate, injure, destroy, or remove any feature of the monument and not to locate or settle upon any of the lands thereof.

IN WITNESS WHEREOF, I have hereunto set my hand this twenty-fifth day of March, in the year of our Lord two thousand thirteen, and of the Independence of the United States of America the two hundred and thirty-seventh.

Billing code 3295-F3

[FR Doc. 2013-07401

Filed 3-27-13; 8:45 am]

Billing code 4310-10-C